DEPARTMENT OF LABOR

Employment and Training Administration

[TA-W-50,852]

Micro Instrument Co., Escondido, CA; Notice of Revised Determination on Reconsideration

By letter postmarked June 17, 2003, a company official requested administrative reconsideration regarding the Department's Negative Determination Regarding Eligibility to Apply for Worker Adjustment Assistance, applicable to the workers of the subject firm.

The initial investigation resulted in a negative determination issued on May 12, 2003, based on the finding that imports of electronic testing equipment did not contribute importantly to worker separations at the subject plant and no shift of production to a foreign source occurred. The denial notice was published in the Federal Register on June 3, 2003 (68 FR 33197).

To support the request for reconsideration, the company official supplied additional major declining customers to supplement those that were survey during the initial investigation. Upon further review and contact with these customers of the subject firm, it was revealed that they increased their import purchases of semiconductor testing equipment during the relevant period. The imports accounted for a meaningful portion of the subject plant's lost sales and production.

Conclusion

After careful review of the additional facts obtained on reconsideration, I conclude that increased imports of articles like or directly competitive with those produced at Micro Instrument Company, Escondido, California, contributed importantly to the declines in sales or production and to the total or partial separation of workers at the subject firm. In accordance with the provisions of the Act, I make the following certification:

All workers of Micro Instrument Company, Escondido, California, who became totally or partially separated from employment on or after January 31, 2002 through two years from the date of this certification, are eligible to apply for adjustment assistance under Section 223 of the Trade Act of 1974.

Signed in Washington, DC, this 29th day of September, 2003.
Elliott S. Kushner,
Certifying Officer, Division of Trade Adjustment Assistance.

[FR Doc. 03-25716 Filed 10-9-03; 8:45 am]

BILLING CODE 4510-30-P